INTERNATIONAL TRADE COMMISSION

[USITC SE-03-038]

Sunshine Act Meeting

AGENCY HOLDING THE MEETING: United States International Trade Commission.

TIME AND DATE: December 2, 2003, at 9:30 a.m.

PLACE: Room 101, 500 E Street, SW., Washington, DC 20436, Telephone: (202) 205-2000.

STATUS: Open to the public.

MATTERS TO BE CONSIDERED:

1. Agenda for future meetings: none.

2. Minutes.

3. Ratification List.

4. Inv. No. 731-TA-1023 (Final) (Certain Ceramic Station Post Insulators from Japan)—briefing and vote. (The Commission is currently scheduled to transmit its determination and Commissioners' opinions to the Secretary of Commerce on or before December 12, 2003.)

5. Outstanding action jackets: none.

In accordance with Commission policy, subject matter listed above, not disposed of at the scheduled meeting, may be carried over to the agenda of the following meeting.

Issued: November 24, 2003.
By order of the Commission:
Marilyn R. Abbott,
Secretary to the Commission.

[FR Doc. 03-29645 Filed 11-24-03; 11:13 am]

BILLING CODE 7020-02-P